DEPARTMENT OF STATE

[Public Notice 9741]

Certification Related to Foreign Military Financing for Colombia Under Section 7045(b)(2) of The Department of State, Foreign Operations, and Related Programs Appropriations Act, 2016 (Div. K, Pub. L. 114-113)

Pursuant to the authority vested in the Secretary of State, including under section 7045(b)(2) of the Department of State, Foreign Operations, and Related Programs Appropriations Act, 2016 (Div. K, Pub. L. 114-113) and Department of State Delegation of Authority 245-1, I hereby certify and report that:

(1) Cases involving members of the Colombian military who have been credibly alleged to have violated human rights, including those in positions with command authority who ordered or covered up such crimes, are subject only to civilian jurisdiction, the Colombian military is cooperating with civilian authorities in such cases, and military officers credibly alleged to have committed gross violations of human rights are removed from positions with command authority until the completion of judicial proceedings and appropriately punished if convicted;

(2) the Government of Colombia is upholding its international obligations by holding accountable persons responsible for crimes against humanity, war crimes, and other gross violations of human rights, and is not offering amnesty to such persons; and

(3) the Government of Colombia is continuing to dismantle illegal armed groups, taking effective steps to protect the rights of human rights defenders, journalists, trade unionists, and other social activists, and respecting the rights and territory of indigenous and Afro-Colombian communities.

This Certification shall be published in the Federal Register and, along with the accompanying Report and Memorandum of Justification, shall be transmitted to the appropriate committees of Congress.

John F. Kerry,
Secretary of State.

[FR Doc. 2016-23426 Filed 9-27-16; 8:45 am]

BILLING CODE 4710-29-P